DEPARTMENT OF TRANSPORTATION

Federal Motor Carrier Safety Administration

[Docket No. FMCSA-2023-0143]

Request for Information: Drivers' Leasing Agreements for Commercial Motor Vehicles (CMVs)

AGENCY: Federal Motor Carrier Safety Administration (FMCSA), Department of Transportation (DOT).

ACTION: Notice; request for information.

SUMMARY: FMCSA requests information from the public, including commercial motor vehicle (CMV) drivers, to assist the Agency's Truck Leasing Task Force (TLTF) in reviewing such leases to identify terms and conditions that may be unfair to drivers. The Infrastructure Investment and Jobs Act, (IIJA), or Bipartisan Infrastructure Law (BIL), requires the Secretary of Transportation, in consultation with the Secretary of Labor, to establish TLTF to examine the terms, conditions, and equitability of common truck leasing arrangements, particularly as they impact owner-operators and trucking businesses subject to such agreements. TLTF will examine these issues and submit a report to the Secretary of Transportation, the Secretary of Labor, and Congress on the TLTF's identified issues and conclusions regarding truck leasing arrangements, including recommended best practices. Comments submitted in response to this notice will be shared with the TLTF prior to its next public meeting.

DATES: Comments must be received on or before March 18, 2024.

ADDRESSES: You may submit comments identified by Docket Number FMCSA-2023-0143 using any of the following methods:

• Federal eRulemaking Portal: Go to https://www.regulations.gov/docket/FMCSA-2023-0143/document. Follow the online instructions for submitting comments.

• Mail: Dockets Operations, U.S. Department of Transportation, 1200 New Jersey Avenue SE, West Building, Ground Floor, Room W12-140, Washington, DC 20590-0001.

• Hand Delivery or Courier: Dockets Operations, U.S. Department of Transportation, West Building, Ground Floor, Room W12-140, 1200 New Jersey Avenue SE, Washington, DC, between 9 a.m. and 5 p.m., Monday through Friday, except Federal holidays.

• Fax: (202) 493-2251.

• Submissions Containing Confidential Business Information (CBI): Brian Dahlin, Chief, Regulatory Evaluation Division, Federal Motor Carrier Safety Administration, 1200 New Jersey Avenue SE, Washington, DC 20590.

To avoid duplication, please use only one of these four methods. See the “Confidential Business Information” portion of the SUPPLEMENTARY INFORMATION section for instructions on submitting comments.

FOR FURTHER INFORMATION CONTACT: Shannon L. Watson, Senior Advisor to the Associate Administrator for Policy and Deputy Designated Federal Officer, Truck Leasing Task Force (TLTF), Federal Motor Carrier Safety Administration, 1200 New Jersey Avenue SE, Washington, DC 20590-0001; (202) 360-2925; TLTF@dot.gov. If you have questions on viewing or submitting material to the docket, contact Dockets Operations, (202) 366-9826.

SUPPLEMENTARY INFORMATION:

A. Submitting Comments

If you submit a comment, please include the docket number for this request for information (RFI) (FMCSA-2023-0143), indicate the specific section of this document to which your comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to https://www.regulations.gov/docket/FMCSA-2023-0143/document, click on this RFI, click “Comment,” and type your comment into the text box on the following screen.

If you submit your comments by mail or hand delivery, submit them in an unbound format, no larger than 8½ by 11 inches, suitable for copying and electronic filing. FMCSA will consider all comments and material received during the comment period.

Confidential Business Information (CBI)

CBI is commercial or financial information that is both customarily and actually treated as private by its owner. Under the Freedom of Information Act (5 U.S.C. 552), CBI is exempt from public disclosure. If your comments responsive to the RFI contain commercial or financial information that is customarily treated as private, that you actually treat as private, it is important that you clearly designate the submitted comments as CBI. Please mark each page of your submission that constitutes CBI as “PROPIN” to indicate it contains proprietary information. FMCSA will treat such marked submissions as confidential under the Freedom of Information Act, and they will not be placed in the public docket of the RFI. Submissions containing CBI should be sent to Brian Dahlin, Chief, Regulatory Analysis Division, Office of Policy, Federal Motor Carrier Safety Administration, 1200 New Jersey Avenue SE, Washington, DC 20590-0001. Any comments FMCSA receives not specifically designated as CBI will be placed in the public docket.

B. Viewing Comments and Documents

To view comments, as well as any documents mentioned in this RFI as being available in the docket, go to https://www.regulations.gov/docket/FMCSA-2023-0143/document and choose the document to review. To view comments, click this RFI, and click “Browse Comments.” If you do not have access to the internet, you may view the docket online by visiting Dockets Operations on the ground floor of the DOT West Building, 1200 New Jersey Avenue SE, Washington, DC 20590, between 9 a.m. and 5 p.m., Monday through Friday, except Federal holidays. To be sure someone is there to help you, please call (202) 366-9317 or (202) 366-9826 before visiting Dockets Operations.

C. Privacy Act

DOT posts comments received, including any personal information the commenter provides, to www.regulations.gov, as described in the system of records notice (DOT/ALL-14 FDMS), which can be reviewed at www.transportation.gov/privacy. The comments are posted without edit and are searchable by the name of the submitter.

I. Background

Congress established the TLTF as a statutory committee under the authority of section 23009 of the Infrastructure Investment and Jobs Act (IIJA), Public Law 117-58 (2021). The TLTF is a Federal advisory committee established in accordance with the provisions of the Federal Advisory Committee Act, as amended, 5 U.S.C. app. 2. TLTF is tasked with examining and reviewing the terms, conditions, and equitability of common truck leasing arrangements, particularly as they impact owner-operators and trucking businesses subject to such agreements. Consistent with the above statutory authority, TLTF will also examine financing arrangements among motor carriers, entry-level drivers, driver training providers, and other involved entities, which may result in new drivers entering the trucking workforce encumbered by outsized debt and inequitable terms for repayment and will identify potential illegal practices to law enforcement or regulators, as appropriate. The Task Force will provide advice and recommendations to the Secretary of Transportation and Secretary of Labor through the Administrator of the Federal Motor Carrier Safety Administration (FMCSA) or their designee. For more information about TLTF, please visit https://www.fmcsa.dot.gov/tltf.

During the TLTF's public meeting on January 18, 2024, TLTF members identified questions they would like to ask CMV drivers who may have been subject to inequitable or predatory terms, as well as questions for drivers who have had positive CMV leasing experiences and what separated the good from the bad experiences.

II. Request for Public Comments

FMCSA requests information from the public about leasing arrangements they have personally experienced or of which they have knowledge. FMCSA is particularly interested in hearing from CMV drivers, lessors of CMVs, trucker organizations, social services organizations, consumer rights and advocacy organizations, plaintiffs' attorneys, academics and researchers, representatives of labor organizations, and state and local government officials. The list of questions provided below are examples of the information the TLTF would find helpful in completing its work. Commenters are not required to answer every question and commenters should not view the list as a constraint on sharing information with the Agency and its TLTF.

In addition to providing the information to the TLTF members, as mentioned above, FMCSA will share the information with the Consumer Financial Protection Bureau (CFPB), a U.S. government agency dedicated to making sure consumers are treated fairly by banks, lenders, and other financial institutions. The DOT has named the CFPB as a technical advisor to the TLTF. Please note that because the information is being submitted to a public docket accessible to all interested parties, individuals should redact personally identifiable information (PII), such as social security numbers, driver's license number, personal address, etc.

Lessees of CMVs

1. If you signed a lease-purchase agreement for a CMV, could you provide copies of leasing documents and copies of documents for all other financial products associated with your work as a CMV lessee (i.e., training debt, maintenance debt, earned wage access, contact from debt collectors, etc.)?

2. What were the actual terms of the lease (e.g., minimum weekly or monthly payments and their structure, start and completion dates, make/model/year of the truck, depreciation and amortization, mileage at the start and conclusion of the lease, maintenance responsibilities, etc.)? Was the lease-purchase agreement held by a carrier or a third-party entity?

3. How was the lease-purchase agreement marketed to you? What were you told about the value of the truck and what earnings and work conditions you could expect? Were you evaluated for likelihood of repayment, through a credit or background check or some other method? What options existed for you to obtain the truck besides leasing it? Did other drivers have a different set of options? If so, why?

4. What did you understand, or not understand, about the terms and conditions to which you agreed? These terms may include the history, condition, and maintenance needs of the truck you leased. Prior to signing your lease-purchase agreement, did you have time to read and understand the leasing contract? Did you know the cost of credit (e.g., interest rate or rent charge) before signing the lease purchase agreement? Did you have a clear picture of your responsibility in the case of a major mechanical breakdown of the CMV?

5. Were you able to negotiate the terms? Were you provided any information about other financing alternatives? Did other drivers have a different set of options and if so, why?

6. Were you informed of how the motor carrier works with independent contractors vs. company drivers and lease-purchase drivers when business is slow? Are you treated similarly or is there a difference between the assignment of loads, etc.?

7. Please elaborate on any additional restrictions placed on your use of the CMV or additional financial agreements imposed outside of the written lease agreement. Did they encompass take-home pay, driver access to loads, etc.?

8. Please elaborate on any additional financial products associated with your work as a CMV lessee (e.g., training debt, maintenance debt, earned wage access, contact from debt collectors, etc.). For instance, if you took out maintenance debt, were you required to use the title of your CMV as security?

9. Were you able to successfully complete the terms of your lease-purchase agreement? If you did not complete your lease, why? How much did you owe at the completion of your lease? Were any charges assessed related solely to your lease payment or were there other charges, such as repayment of a maintenance bill or loan? If there were other charges, please explain.

10. If you owe a balance on your lease-purchase agreement, are you being contacted by the motor carrier, third-party debt collectors, or finance companies? Are there processes, policies, and procedures for taking and handling disputes about the debt? Has information about your debt been furnished to credit reporting companies or employment screening companies? Have you been threatened with a lawsuit to collect these debts? Do collection efforts cease when a driver files for bankruptcy or obtains bankruptcy discharge?

11. How did your expectations about the benefits of the lease compare to the reality of working under that lease? What have the effects of your lease-purchase agreement been on your finances, employment experience, professional mobility, workplace health and safety, and family's well-being?

Lessors of CMVs

1. If you are or were a lessor of CMVs, what best practices do, or did you implement or recommend to ensure that all leases of CMVs you provide are fair and just? Do you underwrite leases? If so, how? How do you determine the value of a CMV and the expected depreciation? If your lessees are pleased with the terms you provide, please expound on those terms.

2. If you lease CMVs to drivers but do not own the CMV (e.g., the CMV is being financed by your company and then you lease it to a driver), how do you determine how much to charge the driver under the lease agreement and how do you ensure the driver can ultimately own the vehicle if there is a lease-purchase agreement?

3. Do you have any specific agreements available to drayage drivers at ports relating to the Clean Truck Program or any similar program to decrease emissions from port operations? Do you have any data that would show the impact of truck leasing agreements on the net compensation of CMV drivers, including port drayage drivers?

Sue Lawless,
Acting Deputy Administrator.

[FR Doc. 2024-03205 Filed 2-15-24; 8:45 am]

BILLING CODE 4910-EX-P